DEPARTMENT OF TRANSPORTATION

Federal Railroad Administration

[Docket Number FRA-2010-0001]

Petition for Waiver of Compliance

Under part 211 of Title 49 Code of Federal Regulations (CFR), this provides the public notice that on August 1, 2018, Santa Cruz Big Trees & Pacific Railway Company (SCBG) petitioned the Federal Railroad Administration (FRA) for a waiver of compliance from certain provisions of the Federal railroad safety regulations contained at 49 CFR parts 215 and 224. FRA assigned the petition Docket Number FRA-2010-0001.

Specifically, SCBG requests an extension of relief from 49 CFR 215.303, Stenciling of restricted cars, and 49 CFR part 224, Reflectorization of Rail Freight Rolling Stock, for 10 SCBG freight cars numbered: SCBG 401-402, 501-504 and 701-704, which are railroad flat cars converted to passenger carriage cars for tourist and excursion railroad service by the addition of seating, side structures, and steps. Each of these freight cars is more than 50 years old, measured from the date of original construction, and are the subject of a parallel petition for special approval for continued operation under § 215.203(c). SCBG states that the required stenciling and reflectorization would detract from both the aesthetic and historical nature of the vintage rail car equipment. As SCBG passenger cars are not interchanged, SCBG suggests that the stenciling recordkeeping requirements may be preserved by maintaining a permanent file of the restrictive conditions at the local SCBG office.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by November 15, 2018 will be considered by FRA before final action is taken. Comments received after that date will be considered as far as practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John K. Alexy,
Deputy Associate Administrator for Railroad Safety.

[FR Doc. 2018-21263 Filed 9-28-18; 8:45 am]

BILLING CODE 4910-06-P